DEPARTMENT OF COMMERCE

National Oceanic and Atmospheric Administration

[I.D. 050103D]

Marine Mammals; File No. 881-1710

AGENCY: National Marine Fisheries Service (NMFS), National Oceanic and Atmospheric Administration (NOAA), Commerce.

ACTION: Receipt of application.

SUMMARY: Notice is hereby given that the Alaska SeaLife Center (ASLC), 301 Railway Avenue, Seward, AK 99664, (Shannon Atkinson, Ph.D., Principal Investigator) has applied in due form for a permit to take harbor seals (Phoca vitulina) for purposes of scientific research.

DATES: Written or telefaxed comments must be received on or before June 6, 2003.

ADDRESSES: The application and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Ruth Johnson or Amy Sloan, (301)713-2289.

SUPPLEMENTARY INFORMATION: The subject permit is requested under the authority of the Marine Mammal Protection Act of 1972, as amended (MMPA; 16 U.S.C. 1361 et seq.), and the Regulations Governing the Taking and Importing of Marine Mammals (50 CFR part 216).

To better investigate potential causes of the decline of harbor seals in the Gulf of Alaska, the ASLC is restructuring their captive population to represent young, healthy seals from genetic stocks affected by the Gulf of Alaska decline. To accomplish this, eight recently weaned harbor seals will be captured from the wild over a two to three year period in the Gulf of Alaska for long-term holding and research at the ASLC. Seals will be captured in nets and transported in kennels to the ASLC for permanent captivity. A maximum of 30 capture attempts will occur per year. During seal capture attempts in the wild, up to 20 seals may incidentally be caught in nets and released, and up to 100 seals may be incidentally disturbed at the haul-out sites. Weaned female pups captured for permanent captivity will be sampled in the wild as follows: sedation or anesthesia; body mass, morphometrics, and 3D photogrammetry; blood, blubber, whisker, and skin samples; body composition; flipper tagging and microchip implant; ultrasound; fecal and urine collection; skin and mucosal swabs; endoscopy; and disease screening. Two accidental mortalities per year are requested during activities conducted in the wild and during transport.

Once at the ASLC, the following will be performed on the harbor seals: monthly health assessments (as described in sampling above); hormone challenge experiments twice yearly; weights and measurements taken up to daily; blood sampling up to once a week; fecal and urine sampling 12 times a year, with dietary markers used four times per year; blubber ultrasound up to daily; bio-electrical impedance once a month; total blood volume determination once a month; deuterium oxide administration and blood sampling once per month; feeding trials four times a year; mucosal swabs, saliva collection, examination of external genitalia up to three times per week; blubber biopsies up to eight times per year; video, photographic, radiographic, digital, and thermal imaging as needed; anesthesia and sedation as deemed necessary by the attending veterinarian. Up to two research-related mortalities per year are requested for the harbor seals once held at ASLC.

This study investigates the importance of lipids in the diets of harbor seals and the long-term effects of high and low lipid diets on the growth, development, maturity, and health of seals. The ASLC proposes to measure a suite of growth and health parameters for seals fed a mixed species diet that differ only with the presence of high and low fat herring and test whether seals that are lean due to lower dietary lipids show, relative to the seals fed a higher lipid diet: (1) Decreased growth rates; (2) delayed reproduction; (3) altered ovulation times; (4) endocrine or immune system function that may adversely affect reproduction or survival; (5) different seasonal or age-related physiological responses affecting digestive efficiency and lipid storage. The following types of samples will be collected from each of the eight harbor seals held at ASLC: blood, blubber, whisker, skin, urine, feces, and skin and mucosal swabs. The applicant has requested a five-year permit.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: May 1, 2003.
Stephen L. Leathery,
Chief, Permits, Conservation and Education Division, Office of Protected Resources, National Marine Fisheries Service.

[FR Doc. 03-11375 Filed 5-6-03; 8:45 am]

BILLING CODE 3510-22-S